DEPARTMENT OF TRANSPORTATION

Federal Aviation Administration

14 CFR Part 420

[Docket No. FAA-2011-0105; Amdt. No. 420-6A]

RIN 2120-AJ73

Explosive Siting Requirements; Correction

AGENCY: Federal Aviation Administration (FAA), DOT.

ACTION: Final rule; correction.

SUMMARY: The FAA is correcting a final rule published on September 7, 2012 (77 FR 55108). In that rule, the FAA amended its regulations to the requirements for siting explosives under a license to operate a launch site. The rule increases flexibility for launch site operators in site planning for the storage and handling of energetic liquids and explosives. The FAA inadvertently did not correctly identify the Department of Defense Explosives Safety Board. This document corrects the error.

DATES: Effective January 8, 2013.

FOR FURTHER INFORMATION CONTACT: For technical questions concerning this final rule, contact Yvonne Tran, Commercial Space Transportation, Federal Aviation Administration, 800 Independence Avenue SW., Washington, DC 20591; telephone (202) 267-7908; facsimile (202) 267-5463, email yvonne.tran@faa.gov. For legal questions concerning this final rule, contact Laura Montgomery, AGC 200, Senior Attorney for Commercial Space Transportation, Office of the Chief Counsel, Federal Aviation Administration, 800 Independence Avenue SW., Washington, DC 20591; telephone (202) 267-3150; facsimile (202) 267-7971, email laura.montgomery@faa.gov.

SUPPLEMENTARY INFORMATION:

Background

On September 7, 2012, the FAA published a final rule entitled, “Explosive Siting Requirements” (77 FR 55108).

In that final rule, the FAA revised the requirements for siting explosives under a license to operate a launch site. The rule increased flexibility for launch site operators in site planning for the storage and handling of energetic liquids and explosives. In the discussion of the Overview of the Final Rule, the FAA explained that it was dispensing with the hazard groups of tables E-3 through E-6 of appendix E of Title 14, Code of Federal Regulations part 420 as a means of classification to be consistent with the Department of Defense (DOD) Explosives Safety Board (DDESB) and National Fire Protection Association (NFPA) practices. In the full title of DDESB, the FAA inadvertently used the word “siting” instead of “safety.” The FAA is now correcting the error to properly identify DDESB.

Correction to Preamble

1. On page 55109, in the first column, in the first paragraph under Section I., correct “Department of Defense (DOD) Explosives Siting Board's (DDESB)” to read “Department of Defense (DOD) Explosives Safety Board (DDESB)”.

Issued in Washington, DC on January 2, 2013.
Lirio Liu,
Director, Office of Rulemaking.

[FR Doc. 2013-00109 Filed 1-7-13; 8:45 am]

BILLING CODE 4910-13-P